DEPARTMENT OF ENERGY

Federal Energy Regulatory Commission

[Project No. 14851-003]

White Pine Waterpower, LLC; Notice of Application Tendered for Filing With the Commission, Requesting Cooperating Agencies, and Soliciting Additional Study Requests

Take notice that the following hydroelectric application has been filed with the Commission and is available for public inspection.

a. Type of Filing: Original major license.

b. Project No.: 14851-003.

c. Date Filed: February 27, 2023.

d. Submitted By: rPlus Hydro, LLLP, on behalf of White Pine Waterpower, LLC (White Pine Waterpower).

e. Name of Project: White Pine Pumped Storage Project.

f. Location: The project would be located approximately 8 miles northeast of the City of Ely, in White Pine County, Nevada. The project would occupy 1,095.76 acres of federal land managed by the U.S. Bureau of Land Management.

g. Filed Pursuant to: Federal Power Act 16 U.S.C. 791(a)-825(r).

h. Applicant Contact: Greg Copeland, Program Manager for rPlus Hydro, LLLP. Address: White Pine Waterpower, LLC c/o rPlus Hydro, LLLP, 201 S Main St., Suite 2100, Salt Lake City, Utah 84111. Phone: (801) 759-2223.

i. FERC Contact: Evan Williams, (202) 502-8462 or evan.williams@ferc.gov.

j. Determination under the Fixing America's Surface Transportation Act (FAST-41): On February 27, 2023, the project sponsor submitted a FAST-41 Initiation Notice to the Federal Permitting Improvement Steering Council for the proposed project. On March 13, 2023, Commission staff determined that the proposed project qualifies as a covered project under FAST-41, as is defined in 42 U.S.C. 4370m(6).

k. Cooperating agencies: Under 42 U.S.C. 4370m-2(a)(2)(A), as the lead agency, the Commission is required to: (1) identify all federal and non-federal agencies and governmental entities likely to have financing, environmental review, authorization, or other responsibilities with respect to the project; and (2) invite all federal agencies under (1) to become a cooperating or participating agency, as appropriate. Commission staff have identified the Bureau of Land Management, National Park Service, U.S. Fish and Wildlife Service, U.S. Army Corps of Engineers, Nevada Division of Environmental Protection, Nevada Department of Wildlife, Nevada Department of Conservation and Natural Resources, and Nevada State Historic Preservation Office as the relevant agencies under (1) above. With this notice, we invite the Bureau of Land Management, National Park Service, U.S. Fish and Wildlife Service, and U.S. Army Corps of Engineers to be cooperating agencies under (2) above. Under 42 U.S.C. 4370m-2(a)(3)(A), each invited federal agency above will be designated as a cooperating agency unless the agency responds in writing to the Commission and the Executive Director of the Federal Permitting Improvement Steering Council within 14 days of this notice stating that the agency: (1) has no jurisdiction or authority with respect to the proposed project; or (2) does not intend to exercise authority related to, or submit comments on, the proposed project.

The federal agencies invited to cooperate above and any other federal, state, local, and tribal agencies with jurisdiction and/or special expertise with respect to environmental issues that wish to cooperate in the preparation of the environmental document should follow the filing instructions described in item m below. Cooperating agencies should note the Commission's policy that agencies that cooperate in the preparation of the environmental document cannot also intervene. See 94 FERC ¶ 61,076 (2001).

l. Pursuant to section 4.32(b)(7) of 18 CFR of the Commission's regulations, if any resource agency, Native-American Tribe, or person believes that an additional scientific study should be conducted in order to form an adequate factual basis for a complete analysis of the application on its merit, the resource agency, Native-American Tribe, or person must file a request for a study with the Commission not later than 60 days from the date of filing of the application, and serve a copy of the request on the applicant.

m. Deadline under 42 U.S.C. 4370m-2(a)(2)(B) for responses from the specific federal agencies invited to cooperate in item k: March 27, 2023.

Deadline for filing additional study requests and deadline for agencies, other than the specific federal agencies invited to cooperate in item k, to file requests for cooperating agency status: April 28, 2023.

The Commission strongly encourages electronic filing. Please file additional study requests and requests for cooperating agency status using the Commission's eFiling system at https://ferconline.ferc.gov/FERCOnline.aspx. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. All filings must clearly identify the project name and docket number on the first page: White Pine Pumped Storage Project (P-14851-003).

n. The application is not ready for environmental analysis at this time.

o. The proposed pumped storage project would involve constructing the following new facilities: (1) a 5,695-foot-long lined compacted rock-fill dam that would create a 46.8-acre upper reservoir that would be lined with an impermeable polyvinylchloride liner to reduce leakage and would be surrounded by a 10-foot-high wildlife and security fence; (2) a 6,629-foot-long compacted earth-fill embankment dam that would create a 62.8-acre lower reservoir that would be lined with an impermeable liner to reduce leakage and would be surrounded by a 10-foot-high wildlife and security fence; (3) a water conveyance system connecting the upper and lower reservoirs that consists of the following structures: (a) an ungated vertical inlet/outlet bellmouth-type structure located at the bottom of the upper reservoir with a 65-foot-deep conical transition to provide flow into a 20-foot-diameter, 2,260-foot-high reinforced concrete-lined vertical headrace shaft; (b) a 20-foot-diameter, 240-foot-long horizontal steel-lined high-pressure headrace tunnel; (c) three 11-foot-diameter, 134- to 200-foot-long steel-lined underground penstocks, each with a turbine main inlet valve just upstream of each pump-turbine unit; (d) three 13-foot-diameter, 352- to 448-foot-long steel-lined draft tube tunnels of, that transition to concrete-lined tunnels of unknown length, downstream of the transformer cavern; (e) a 22-foot-diameter, 7,610-foot-long concrete-lined tailrace tunnel that terminates at the inlet/outlet structure; and (f) an approximately 92.5-foot-wide intake/outlet structure with trashracks, designed as a horizontal fan-shaped diffusor, that extends more than 100 feet from the tailrace tunnel and isolates the lower reservoir from the tailrace tunnel by a pair of 10.5-foot by 25-foot stoplogs in slots extending down from the intake/outlet structure; (4) a 367-foot-long, 83-foot-wide, 191-foot-high underground powerhouse cavern containing three 333-megawatt Francis pump-turbines and three generator-motors; (5) a 300-foot-long, 62-foot-wide, 93-foot-high underground transformer cavern containing three-phase step-up transformers connected to the powerhouse cavern by three busbar tunnels of unknown dimensions; (6) three 345-kilovolt underground circuits connecting from the unit transformers in the transformer cavern through a 4,950-foot-long, 24-foot-diameter, D-shaped cable tunnel to the new switchyard; (7) a 400-foot-long by 370-foot-wide fenced outdoor switchyard where the circuits would be combined into a single 345-kilovolt transmission line; (8) a 25-mile-long, 345-kilovolt overhead transmission line that connects to the grid at the existing NV Energy Robinson Summit substation (the point of interconnection); (9) a 5,108-foot-long 30-foot-diameter, D-shaped shotcrete-lined main access tunnel to provide access to the powerhouse and transformer caverns; (10) six other secondary access tunnels for accessing the transformer and powerhouse caverns (4 tunnels), the tailrace, and the headrace; (11) access roads, including: (a) 4,872-foot-long lower reservoir perimeter road; (c) a 572-foot-long switchyard access road; (d) a 37,300-foot-long, permanent, dual-lane paved upper reservoir access road; (e) a 6,200-foot-long upper reservoir perimeter road; and (f) an unknown number of access roads for transmission line access; (12) a gated, signed, and signaled railroad crossing for construction vehicle traffic across the active Nevada Northern Railway HiLine track; (13) a permanent, approximately 1,005,000-cubic-yard spoil disposal site; (14) an unknown number of temporary explosives storage facilities of unknown dimensions; and (15) appurtenant facilities. A new, alternative upper reservoir access road is being considered that would utilize an approximately 3.5-mile long, permanent, dual-lane paved roadway that would connect the proposed upper reservoir location to White Pine County Road 29 (NV-486), through the Duck Creek Range and across Duck Creek. Additionally, a gated, signed, and signaled railroad crossing for construction vehicle traffic across the currently inactive Nevada Northern Railway Mainline track is also being considered, if the track is reactivated.

The project would also utilize existing portions of unknown lengths of U.S. highway 93 and an existing unimproved, unpaved vehicle track as the proposed western access road, and an unknown number of existing access roads and tracks of unknown length to access the proposed transmission line and temporary explosives storage facilities. Additionally, an unknown number of existing power distribution lines would need to be re-routed and upgraded before construction of the project to avoid impacts as a result of lower reservoir construction and to facilitate crossings at the western access road. Further, an unidentified ridge road of unknown length would need to be rerouted to bypass construction and permanent facilities. NV Energy would also need to design and construct a new bay at the Robinson Summit Substation for the interconnection of the project.

The water used for construction, to initially fill the new lower reservoir, and to provide make-up water would come from four new groundwater wells in the Steptoe Valley, located to the south of the lower reservoir. The initial volume of water necessary to fill the lower reservoir is estimated to be 5,000 acre-feet and would be filled over a 12- to 18-month period. It is estimated that the project would need approximately 560 acre-feet of water each year to replenish water lost through seepage, leakage, and evaporation. Once the lower reservoir is filled, approximately 4,082 acre-feet could be cycled between the lower reservoir and upper reservoir each day. The project is designed to generate electricity on demand for up to 8 hours each day at the maximum generating capacity. The estimated annual generation is 2,400 gigawatt-hours per year.

p. In addition to publishing the full text of this document in the Federal Register, the Commission provides all interested persons an opportunity to view and/or print the contents via the internet through the Commission's Home Page (http://www.ferc.gov) using the “eLibrary” link. Enter the docket number excluding the last three digits in the docket number field to access the document. For assistance, contact FERC at FERCOnlineSupport@ferc.gov or call toll-free, (866) 208-3676 or TYY, (202) 502-8659.

You may also register online at https://ferconline.ferc.gov/FERCOnline.aspx to be notified via email of new filings and issuances related to this or other pending projects. For assistance, contact FERC Online Support.

q. Procedural schedule: Consistent with the requirements in FAST-41, a procedural schedule for processing the license application will be developed in consultation with the relevant agencies and subsequently posted to the docket.

r. Final amendments to the application must be filed with the Commission no later than 30 days from the issuance date of the notice of ready for environmental analysis.

Dated: March 13, 2023.
Kimberly D. Bose,
Secretary.

[FR Doc. 2023-05543 Filed 3-17-23; 8:45 am]

BILLING CODE 6717-01-P